SMALL BUSINESS ADMINISTRATION

Region IV North Florida District Advisory Council Public Meeting

Pursuant to the Federal Advisory Committee Act, Appendix 2 of Title 5, United States Code, Public Law 92-463, notice is hereby given that the U.S. Small Business Administration (SBA) North Florida District Advisory Council will host a pubic meeting on Thursday, July 26, 2007 at 12 p.m. EST. The meeting will be held at the Banco Popular located at 2 South Orange Avenue, 6th Floor, Orlando, FL 32801.

The purpose of the meeting is to discuss the status for FY 2007 SBA loan reports and goals, and will include a presentation (speaker TBD) as well as matters of the SBA. Anyone wishing to make an oral presentation to the Board must contact Wilfredo J. Gonzalez, District Director, in writing by letter or fax no later than Thursday, July 19, 2007, in order to be placed on the agenda. Wilfredo J. Gonzalez, District Director,U.S. Small Business Administration, 7825 Baymeadows Way; Suite 100B, Jacksonville, FL 32256, (904) 443-1900 or FAX (904) 443-1980.

Matthew Teague,
Committee Management Officer.

[FR Doc. E7-13648 Filed 7-12-07; 8:45 am]

BILLING CODE 8025-01-P